FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573.

American Cargo, Inc. (NVO & OFF), 1509 S. Sierra Vista Avenue, #C, Alhambra, CA 91801. Officer:Shunkun He, CEO, (Qualifying Individual). Application Type: New NVO & OFF License.

Avenue 8 Group Inc. dba Avenue International (NVO & OFF), 9080 Telstar Avenue, #321, El Monte, CA 91731. Officers:Ana Fregoso, Vice President, (Qualifying Individual). Ryan Luu, President. Application Type: New NVO & OFF License.

BYTR International Inc. (OFF), 13152 Rivergate Trail West, Jacksonville, FL 32223. Officer:Bahtiyar Yurdakul, President (Qualifying Individual). Application Type: License Transfer.

Douglas Enrique Cabrera dba Cargo-Envios Express (NVO & OFF), 2500 Cruze Place, Hyattsville, MD 20783. Officer:Douglas Enrique Cabrera, President (Qualifying Individual). Application Type: New NVO & OFF License.

Cargomar Express, Inc. (NVO & OFF), 6713 NW. 84th Avenue, Miami, FL 33166. Officer:Lainder Araujo, President/Secretary (Qualifying Individual). Application Type: New NVO & OFF License.

CJC Logistics LLC (NVO & OFF), 186 Alps Road, Wayne, NJ 07470. Officers:Oliver Rosca, President, (Qualifying Individual). Maria L. Rosca, CFO. Application Type: Add NVO Service.

Global Cargo Connection (NVO), 370 Amapola Avenue, Suite 108, Torrance, CA 90501. Officer:Steve Lee, President (Qualifying Individual). Application Type: Trade Name Change.

Jason Michael Pitcock dba JPL (NVO & OFF), 8831 Vista Springs Drive Spring, TX 77379. Officer:Jason M. Pitcock, Sole Proprietor (Qualifying Individual). Application Type: New NVO & OFF License.

Joker Logistics USA, Inc. (NVO & OFF), 11301 Metro Airport Center Drive, #170, Romulus, MI 48174. Officer:Michael Unsworth, Vice President of Customs (Qualifying Individual), Roland Mischke, Director/President/Secretary. Application Type: QI Change.

Korchina Logistics USA, Inc. (NVO & OFF), 18120 S. Broadway, Unit A, Gardena, CA 90248. Officers:Young C. Jang, Secretary (Qualifying Individual). Eric Sun, President/CEO/Director. Application Type: New NVO & OFF License.

Mega Shipping, Inc. (NVO), 9550 Flair Drive, #508, El Monte, CA 91731. Officers:Yuwei Chen, CEO/Secretary/CFO (Qualifying Individual). Application Type: New NVO License.

Oliveira Marine Shipping, Inc. (NVO & OFF), 1200 Acushnet Avenue, New Bedford, MA 02746. Officers:Arnaldo S. Oliveira, President (Qualifying Individual). Application Type: Add NVO Service.

Pas Global Logistics, Inc. (NVO & OFF), 8555 Cashio Street, #305, Los Angeles, CA 90035. Officer: Seung H. Moon, President/Secretary/Treasurer (Qualifying Individual). Application Type: New NVO & OFF License.

PNGL (USA) Inc. (NVO & OFF), Unit 2K, Pacifica Industrial Park, 17121 S. Central Avenue, Carson, CA 90746. Officers:Lilliane Sagherian, Vice President, Werner Staub, President/Secretary/CFO (Qualifying Individuals). Application Type: QI Change.

Safeway Shipping and Clearing Services, Inc (NVO & OFF), 3615 Willowbend Boulevard, #414, Houston, TX 77054. Officer:Julius Okunola, Chairman/Executive Director (Qualifying Individual), Abiola Iyiola, Director. Application Type: New NVO & OFF License.

Sunjin Shipping (U.S.A.), Inc. (NVO & OFF), 149-15 177th Street, Jamaica, NY 11413. Officers:Key Y. Chung, President (Qualifying Individual), Inho Hwang, Treasurer. Application Type: Add NVO Service.

TGP Logistics Inc. (OFF), 11490 Westheimer, #850, Houston, TX 77077. Officers:Myrian T. Morales, Assistant Vice President & Projects Coordinator (Qualifying Individual), Colin B. Charnock, Managing Director. Application Type: New OFF License.

U.S. Africa Freight, Inc. dba U.S. 2 Africa dba U.S. Africa Shipping (OFF), 930 Hoffner Avenue, Orlando, FL 23809. Officers:Esthela Montgomery, Secretary (Qualifying Individual), Neil Barclay, Director. Application Type: New OFF License.

YRC Logistics Global, LLC (NVO & OFF), 10990 Roe Avenue, MS E101, Overland Park, KS 66211. Officers:Tina M. Jansen, VP Import Compliance & Services (Qualifying Individual), John Carr, President. Application Type: QI Change.

Zapcargo Logistics, LLC (NVO), 10735 SW. 216 Street, #408, Miami, FL 33170. Officers:Maurice V. Lloyd, Managing Director (Qualifying Individual). Application Type: New OFF License.

Dated: July 23, 2010.
Karen V. Gregory,
Secretary.

[FR Doc. 2010-18529 Filed 7-27-10; 8:45 am]

BILLING CODE 6730-01-P